DEPARTMENT OF THE TREASURY

Senior Executive Service; Legal Division Performance Review Board Members

AGENCY: Department of the Treasury.

ACTION: Notice of members of the Legal Division Performance Review Board (PRB).

SUMMARY: Pursuant to 5 U.S.C. 4314(c)(4), this notice announces the appointment of members of the Legal Division PRB. The purpose of this Board is to review and make recommendations concerning proposed performance appraisals, ratings, bonuses, and other appropriate personnel actions for incumbents of SES positions in the Legal Division.

DATES: Effective Date: October 16, 2012.

FOR FURTHER INFORMATION CONTACT: Office of the General Counsel, Department of the Treasury, 1500 Pennsylvania Avenue NW., Room 3000, Washington, DC 20220, Telephone: (202) 622-0283 (this is not a toll-free number).

SUPPLEMENTARY INFORMATION: Composition of Legal Division PRB:

The Board shall consist of at least three members. In the case of an appraisal of a career appointee, more than half the members shall consist of career appointees. Composition of the specific PRBs will be determined on an ad hoc basis from among the individuals listed in this notice.

The names and titles of the PRB members are as follows:

Peter A. Bieger, Assistant General Counsel (Banking and Finance);

George Bostick, Benefits Tax Counsel;

Bill Bradley, Chief Counsel, Financial Crimes Enforcement Network;

Himamauli Das, Assistant General Counsel (International Affairs);

Margaret Depue, Chief Counsel, Financial Management Service;

Rochelle F. Granat, Assistant General Counsel (General Law, Ethics and Regulation);

Elizabeth Horton, Deputy Assistant General Counsel (Ethics);

Mark Kaizen, Associate Chief Counsel (General Legal Services), Internal Revenue Service;

Catherine E. Livingston, Special Counsel to the Chief Counsel Healthcare Program, Internal Revenue Service;

Lee Kelley, Deputy Benefits Tax Counsel;

M.J.K. Maher, Jr., Deputy Assistant General Counsel (Enforcement & Intelligence);

Kevin Rice, Chief Counsel, Bureau of Engraving and Printing;

Joseph Samarias, Deputy Chief Counsel, Office of Financial Stability;

Daniel P. Shaver, Chief Counsel, United States Mint;

Brian Sonfield, Deputy Assistant General Counsel (General Law and Regulation);

Christian A. Weideman, Deputy General Counsel and;

Paul Wolfteich, Chief Counsel, Bureau of the Public Debt.

Dated: October 5, 2012.
Christian A. Weideman,
Deputy General Counsel.

[FR Doc. 2012-25310 Filed 10-15-12; 8:45 am]

BILLING CODE 4810-25-P